DEPARTMENT OF HEALTH AND HUMAN SERVICES

Administration for Children and Families

Submission for OMB Review; Comment Request

Title: DHHS/ACF/ASPE/DOL Enhanced Services for the Hard-to Employ Demonstration and Evaluation: Kansas and Missouri 36-Month Data Collection.

OMB NO. New Collection.

Description: The Enhanced Services for the Hard-to-Employ Demonstration and Evaluation Project (HtE) seeks to learn what services improve the employment prospects of low-income persons who face serious obstacles to steady work. The project is sponsored by the Office of Planning, Research and Evaluation (OPRE) within the Administration for Children and Families (ACF) and the Office of the Assistant Secretary for Planning and Evaluation (ASPE), both within the U.S. Department of Health and Human Services (HHS), and the U.S. Department of Labor (DOL).

The HtE project is a multi-year, multi-site evaluation that employs an experimental longitudinal research design to test four strategies aimed at promoting employment among hard-to-employ populations. The four include: (1) Intensive care management and job services program for Rhode Island Medicaid recipients with serious depression; (2) job readiness training, worksite placements, job coaching, job development and other training opportunities for recent parolees in New York City; (3) pre-employment services and transitional employment for long-term participants receiving Temporary Assistance for Needy Families (TANF); and (4) two-generational Early Head Start (EHS) services providing enhanced self-sufficiency services for parents, parent skills training, and high-quality child care for children in low-income families in Kansas and Missouri.

The purpose of this document is to request public comment on the proposed 36-month parent survey and direct child assessments in Kansas and Missouri. The research team plans to collect parent-reported surveys assessing parents' employment, education and economic outcomes, child outcomes, as well as aspects of parental psychological well-being, parenting, family functioning and routines, and child care use. This data collection effort will also include direct assessments of young children's cognitive, socioemotional and behavioral development.

The follow-up survey and direct child assessments at the 36-month follow-up in Kansas and Missouri will be used for the following purposes: To study the extent to which EHS services with enhanced self-sufficiency services (enhanced EHS services) affect employment, earnings, income, and welfare dependence of low-income parents with young children; to study the impacts of enhanced EHS services on child well-being and school readiness; to examine the impacts of enhanced EHS services on key aspects of parental psychological well-being, parenting, family functioning and routines, and child care that might account for the effects of the intervention on young children; to collect data on a wider range of outcome measures than is available through welfare, Medicaid, Food Stamps, Social Security, and Unemployment Insurance records.

The 36-month data collection efforts draws heavily from the 15-month survey and direct child assessments conducted in this site. Materials for the survey and direct child assessments for the 15-month data collection effort were previously submitted to OMB and were approved (OMB Control No. 0970-0276).

Respondents: The target population of the HtE project in Kansas and Missouri is low-income pregnant women and families with infants and toddlers.

The respondents to the 36-month data collection effort will be all participants in the program and the control groups of the HtE project in Kansas and Missouri. Parents will be responding to a survey. Children between the ages of 2 and 7 years old at the 36-month follow-up will be asked to participants in direct child assessments aimed at understanding their emotional, behavioral, and cognitive development and school readiness.

The annual burden estimates are detailed below, and the substantive content of each component will be detailed in the supporting statement attached to this 30-day notice.

Annual Burden Estimates
Instrument | Number of respondents | Number of responses per respondent | Average burden hours per response | Total burden hours
KS/MO 36-month parent survey | 610 | 1 | .75 | 457.50
KS/MO 36-month direct child assessments | 610 | 1 | .50 | 305.00

Estimated Total Annual Burden Hours: 762.50.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, Fax: (202) 395-3674, Attn: Desk Officer for the Administration for Children and Families.

Dated: June 13, 2007.
Brendan Kelly
OPRE Reports Clearance Officer.

[FR Doc. 07-2996 Filed 6-18-07; 8:45 am]

BILLING CODE 4184-07-M